DEPARTMENT OF DEFENSE

Office of the Secretary

[Docket No. DOD-2012-OS-0005]

Submission for OMB Review; Comment Request

ACTION: Notice.

The Department of Defense has submitted to OMB for clearance, the following proposal for collection of information under the provisions of the Paperwork Reduction Act (44 U.S.C. Chapter 35).

DATES: Consideration will be given to all comments received by January 22, 2013.

Title and OMB Number: Department of Defense Education Activity (DoDEA) Sure Start Parent Questionnaire; OMB Control Number 0704-0456.

Type of Request: Reinstatement.

Number of Respondents: 1100.

Responses per Respondent: 2.

Annual Responses: 2200.

Average Burden per Response: 10 minutes.

Annual Burden Hours: 367 hours.

Needs and Uses: The Sure Start Parent Questionnaire is an instrument to measure the overall satisfaction level of parents of students enrolled in DoDEA Sure Start programs. This collection is necessary to meet the Government Performance and Results Act of 1993,

Public Law 103-62; 107 Stat. 285, that requires agencies to have strategic plans and to consult with affected persons. A major purpose of the regulation is to improve Federal program effectiveness and public accountability by promoting a new focus on results, service quality, and customer satisfaction. The parent survey is also a required component of the annual evaluation of the Sure Start program as required by DoDEA.

Affected Public: Individuals or households.

Frequency: Semi-annually.

Respondent's Obligation: Voluntary.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: November 23, 2012.
Patricia L. Toppings,
OSD Federal Register, Liaison Officer, Department of Defense.

[FR Doc. 2012-30659 Filed 12-19-12; 8:45 am]

BILLING CODE 5001-06-P